DEPARTMENT OF TRANSPORTATION

Federal Highway Administration

Environmental Impact Statement: Final and Gila Counties, AZ

AGENCY: Federal Highway Administration (FHWA), DOT.

ACTION: Notice of intent.

SUMMARY: The FHWA is issuing this notice to advise the public that an environmental impact statement will be prepared for a proposed highway project in Pinal and Gila counties, Arizona.

FOR FURTHER INFORMATION CONTACT: Kenneth Davis, Senior Engineering Manager for Operations, Federal Highway Administration, Arizona Division Office, 4000 North Central Avenue, Suite 1500, Phoenix, Arizona 85012, Telephone: (602) 382-8970, Fax: (602) 382-8998, e-mail: Ken.davis@fhwa.dot.gov; or

Mary Frye, Environmental Coordinator, Federal Highway Administration, Arizona Division Office, 4000 North Central Avenue, Suite 1500, Phoenix, Arizona 85012, Telephone: (602) 382-8979, Fax: (602) 382-8998, e-mail: Mary.Frye@thwa.dot.gov.

SUPPLEMENTARY INFORMATION: The FHWA, in cooperation with the Arizona Department of Transportation (ADOT), will prepare a National Environmental Policy Act (NEPA) Environmental Impact Statement (EIS) on a proposal to improve and/or realign US Highway (US) 60 in Pinal and Gila counties, Arizona from west of Superior at approximately milepost (MP) 222.6 to east of Globe at approximately MP 258.0. The proposed project evaluation will include, but not be limited to potential impacts to residential and commercial development, cultural resources, mining, Threatened and Endangered Species, jurisdictional waters of the U.S., scenic resources, air and noise quality, hazardous materials, and secondary and cumulative impacts.

Improvements to the corridor are considered necessary to provide for the existing and projected traffic demand. Alternatives under consideration include (1) taking no action, (2) improvements to the existing US 60, and (3) at least 18 different segment alignments for potential relocation and development of the highway north and south of the existing US 60 on lands managed by the Tonto National Forest (TNF), Bureau of Land Management (BLM), as well as on private lands. The TNF and BLM have been invited to accept the roles of Cooperating Agency for the study in addition to the U.S. Army Corps of Engineers.

Letters describing the proposed action and soliciting comments will be sent to appropriate Federal, State, and local agencies, and to private organizations and citizens who have previously expressed interest in this proposal. Formal NEPA agency and public scoping meetings, a series of public information meetings and public hearings will be held.

Public notice will be given of the time and place of the meetings and hearings. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Kenneth Davis,
Senior Engineering Manager for Operations, Federal Highway Administration, Arizona Division Office, Phoenix, Arizona.

[FR Doc. E9-9732 Filed 4-29-09; 8:45 am]

BILLING CODE 4910-22-M